DEPARTMENT OF THE INTERIOR

Bureau of Land Management

Fair Market Value Meeting for the Summit Creek Coal Tract, Carbon County, Utah

AGENCY: Bureau of Land Management, Interior.

ACTION: Notice of public meeting and call for public comment on the proposed sale and fair market value and maximum economic recovery consideration for Coal Lease Application UTU-79975.

SUMMARY: The Bureau of Land Management (BLM) will hold a public meeting on April 22, 2004, for the proposed competitive sale, of the Summit Creek Coal Tract. BLM requests public comment on the fair market value and environmental effects of this tract. The BLM signed a Finding of No Significant Impact/Decision Record dated April 9, 2004 that discusses the environmental effects of mining this tract. The lands included in the delineated Federal coal lease tract are located in Carbon County, Utah approximately 5 miles north of Price, Utah on public lands under the jurisdiction of the BLM Price Field Office and are described as follows:

SLM, Carbon County, Utah

T. 12 S., R. 11 E.,

Section 29, SWSW, SWSE;

Section 30, Lots 4, 12, 14-16;

Section 31, Lots 1, 2, 7-11;

Section 32, W2NE, E2NW, NWNW, NESW.

Approximately 702.73 acres more or less.

Andalex Resources submitted the application for the coal lease. The company plans to mine the coal as an extension from their existing Aberdeen mine if the lease is obtained. The Summit Creek coal tract is minable in the Aberdeen coal bed. The minable portions of the coal beds in this area are from 6 to 10 feet in thickness. The tract contains more than 5 million tons of recoverable high-volatile C bituminous coal. The coal quality in the seams on an “as received basis” is as follows: 12,756 Btu/lb., 5.95 percent moisture, 4.63 percent ash, 44.73 percent volatile matter, 45.69 percent fixed carbon and 0.44 percent sulfur. The public is invited to the meeting to make public and/or written comments on the environmental implications of leasing the proposed tract, and also to submit comments on the Fair Market Value and the Maximum Economic Recovery of the tract.

SUPPLEMENTARY INFORMATION: In accordance with Federal coal management regulations 43 CFR 3422 and 3425, the public meeting is being held on the proposed sale to allow public comment on and discussion of the potential effects of mining and proposed lease. The meeting is being advertised in the Sun Advocate located in Price, Utah and the Emery County Progress located in Emery, Utah. 43 CFR 3422 states that, No less than 30 days prior to the publication of the notice of sale, the Secretary shall solicit public comments on the Fair Market Value appraisal and Maximum Economic Recovery and on factors that may affect these two determinations. Proprietary data marked as confidential may be submitted to the Bureau of Land Management in response to this solicitation of public comments. Data so marked shall be treated in accordance with the laws and regulations governing the confidentiality of such information. A copy of the comments submitted by the public on fair market value and maximum economic recovery, except those portions identified as proprietary by the author and meeting exemptions stated in the Freedom of Information Act, will be available for public inspection at the Bureau of Land Management, Utah State Office during regular business hours (8 a.m.-4 p.m.) Monday through Friday. Comments on the Fair Market Value and Maximum Economic Recovery should be sent to the Bureau of Land Management and should address, but not necessarily be limited to, the following information.

1. The quality and quantity of the coal resource;

2. The mining methods or methods which would achieve maximum economic recovery of the coal, including specifications of seams to be mined and the most desirable timing and rate of production;

3. Whether this tract is likely to be mined as part of an existing mine and therefore should be evaluated on a realistic incremental basis, in relation to the existing mine to which it has the greatest value;

4. Whether the tract should be evaluated as part of a potential larger mining unit and evaluated as a portion of a new potential mine (i.e., a tract which does not in itself form a logical mining unit);

5. Restrictions to mining that may affect coal recovery;

6. The price that the mined coal would bring when sold;

7. Costs, including mining and reclamation, of producing the coal and the time of production.

8. The percentage rate at which anticipated income streams should be discounted, either with inflation or in the absence of inflation, in which case the anticipated rate of inflation should be given;

9. Depreciation, depletion, amortization and other tax accounting factors;

10. The value of any surface estate where held privately;

11. Documented information on the terms and conditions of recent and similar coal land transactions in the lease sale area;

12. Any comparable sales data of similar coal lands; and coal quantities and the Fair Market Value of the coal developed by BLM may or may not change as a result of comments received from the public and changes in the market conditions between now and when final economic evaluations are completed.

DATES: The public meeting is being held on Thursday, April 22, 2004 at the BLM Price Field Office, 125 So. 600 W, Price, Utah, starting at 7 p.m.

FOR FURTHER INFORMATION CONTACT: Written comments on the Fair Market Value and Maximum Economic Recovery must be received by May 14, 2003 and should be addressed to Mr. Jeff McKenzie, 801-539-4038, Bureau of Land Management, Utah State Office, Division of Lands and Minerals, P.O. Box 45155, Salt Lake City, Utah 84145-0155. Information on the Finding of No Significant Impact/Decision Record can be obtained by contacting Mr. Jeff McKenzie, 801-539-4038, or Mr. Steve Falk, 435-636-3605 at the BLM Price Field Office. The appeal periods for the Finding of No Significant Impact/Decision Record document and the appeal period for BLM's decision to lease will end on May 9, 2004. Any appeals must be postmarked as of these dates.

Douglas P. Bauer,
Acting Deputy State Director, Division of Lands and Minerals.

[FR Doc. 04-8545 Filed 4-15-04; 8:45 am]

BILLING CODE 4310-$$-P